DEPARTMENT OF LABOR

Employment and Training Administration

[NAFTA-5676 and NAFTA-5676A]

Nortel Networks, Qtera/Operations, Boca Raton, Florida; and Nortel Networks, Qtera/Operations, Support Services Worker Located in New Jersey; Amended Certification Regarding Eligibility to Apply for NAFTA-Transitional Adjustment Assistance

In accordance with Section 250(a), Subchapter D, Chapter 2, Title II, of the Trade Act of 1974, as amended (19 U.S.C. 2273), the Department of Labor issued a Certification of Eligibility to Apply for NAFTA Transitional Adjustment Assistance on February 19, 2002, applicable to workers of Nortel Networks, Qtera/Operations, Boca Raton, Florida. The notice was published in the Federal Register on February 28, 2002 (67 FR 9324).

At the request of the State agency, the Department reviewed the certification for workers of the subject firm. The workers are engaged in activity related to the production of optical networking systems. The company has reported to the State that it employed a worker in New Jersey to provide support services related to the production of articles produced in Boca Raton, Florida.

The intent of the Department's certification is to include all workers of Nortel Networks, Qtera/Operations, Boca Raton, Florida, adversely affected by the shift in production to Mexico. Accordingly, the Department is amending the certification to expand coverage to include workers of Nortel Networks, Qtera/Operations providing support services in New Jersey.

The amended notice applicable to NAFTA-5676 is hereby issued as follows:

“All workers at Nortel Networks, Qtera/Operations, Boca Raton, Florida, and support staff workers located in New Jersey, engaged in employment related to the production of optical networking systems, who became totally or partially separated from employment on or after December 6, 2000 through February 19, 2004, are eligible to apply for NAFTA-TAA under Section 250 of the Trade Act of 1974.”

Signed in Washington, DC this 2nd day of July, 2002.
Linda G. Poole,
Certifying Officer, Division of Trade Adjustment Assistance.

[FR Doc. 02-18073 Filed 7-17-02; 8:45 am]

BILLING CODE 4510-30-P